DEPARTMENT OF ENERGY

Federal Energy Regulatory Commission

Combined Notice of Filings #1

November 10, 2010.

Take notice that the Commission received the following exempt wholesale generator filings:

Docket Numbers: EG11-10-000.

Applicants: AES Laurel Mountain, LLC.

Description: Notice of Self-Certification as an Exempt Wholesale Generator of AES Laurel Mountain, LLC.

Filed Date: 11/09/2010.

Accession Number: 20101109-5067.

Comment Date: 5 p.m. Eastern Time on Tuesday, November 30, 2010.

Take notice that the Commission received the following electric rate filings:

Docket Numbers: ER94-1384-038; ER03-1108-011; ER99-2329-009; ER01-457-009; ER03-1109-011; ER04-733-007; ER08-1432-007;

Applicants: Morgan Stanley Capitol Group Inc., Naniwa Energy LLC, Power Contract Finance, L.L.C., South Eastern Generating Corporation, South Eastern Electric Development Corporation, Utility Contract Funding II, LLC, MS Solar Solutions Corp., Power Contract Financing II, L.L.C., Power Contract Financing II, Inc.

Description: Supplemental Information of Morgan Stanley Capital Group Inc., et. al.

Filed Date: 11/09/2010.

Accession Number: 20101109-5155.

Comment Date: 5 p.m. Eastern Time on Tuesday, November 30, 2010.

Docket Numbers: ER10-2250-001.

Applicants: Portland General Electric Company.

Description: Portland General Electric Company submits its Reserve Energy Service Baseline Filing, to be effective 8/17/2010.

Filed Date: 11/10/2010.

Accession Number: 20101110-5010.

Comment Date: 5 p.m. Eastern Time on Wednesday, December 1, 2010.

Docket Numbers: ER11-2060-000.

Applicants: Edison Mission Marketing & Trading, Inc., Exelon Generation Company, LLC.

Description: Joint Request for Limited Waivers of PJM Operating Agreement and OATT filed by Edison Mission Marketing & Trading, Inc., et. al.

Filed Date: 11/09/2010.

Accession Number: 20101109-5194.

Comment Date: 5 p.m. Eastern Time on Tuesday, November 30, 2010.

Docket Numbers: ER11-2061-000.

Applicants: PJM Interconnection, L.L.C.

Description: PJM Interconnection, L.L.C. submits tariff filing per 35: Ministerial Filing reflecting revisions per Order in Docket No. ER10-2323 to be effective 10/25/2010.

Filed Date: 11/10/2010.

Accession Number: 20101110-5040.

Comment Date: 5 p.m. Eastern Time on Wednesday, December 1, 2010.

Docket Numbers: ER11-2062-000.

Applicants: Energy Plus Holdings LLC.

Description: Energy Plus Holdings LLC submits tariff filing per 35.1: Baseline 714 compliance to be effective 4/27/2010.

Filed Date: 11/10/2010

Accession Number: 20101110-5048.

Comment Date: 5 p.m. Eastern Time on Wednesday, December 1, 2010.

Docket Numbers: ER11-2063-000.

Applicants: Duke Energy Vermillion II, LLC.

Description: Duke Energy Vermillion II, LLC submits tariff filing per 35.1: MBR Filing to be effective 1/9/2011.

Filed Date: 11/10/2010.

Accession Number: 20101110-5056.

Comment Date: 5 p.m. Eastern Time on Wednesday, December 1, 2010.

Docket Numbers: ER11-2064-000.

Applicants: Duke Energy Hanging Rock II, LLC.

Description: Duke Energy Hanging Rock II, LLC submits tariff filing per 35.1: MBR Filing to be effective 1/9/2011.

Filed Date: 11/10/2010.

Accession Number: 20101110-5063.

Comment Date: 5 p.m. Eastern Time on Wednesday, December 1, 2010.

Docket Numbers: ER11-2065-000.

Applicants: Duke Energy Lee II, LLC.

Description: Duke Energy Lee II, LLC submits tariff filing per 35.1: MBR Filing to be effective 1/9/2011.

Filed Date: 11/10/2010.

Accession Number: 20101110-5065.

Comment Date: 5 p.m. Eastern Time on Wednesday, December 1, 2010.

Docket Numbers: ER11-2066-000.

Applicants: Duke Energy Washington II, LLC.

Description: Duke Energy Washington II, LLC submits an Application for Order Accepting Market-Based Rate Tariffs, Granting Waivers and Blanket Authorizations, to be effective 1/9/2011.

Filed Date: 11/10/2010.

Accession Number: 20101110-5067.

Comment Date: 5 p.m. Eastern Time on Wednesday, December 1, 2010.

Docket Numbers: ER11-2067-000.

Applicants: Southern California Edison Company.

Description: Southern California Edison Company submits tariff filing per 35.13(a)(2)(iii: LGIA Manzana Wind Project SA 89 to be effective 1/10/2011.

Filed Date: 11/10/2010.

Accession Number: 20101110-5072.

Comment Date: 5 p.m. Eastern Time on Wednesday, December 1, 2010.

Docket Numbers: ER11-2068-000.

Applicants: Xcel Energy Services Inc.

Description: Xcel Energy Services Inc. submits Notice of Cancellation of Emergency Connection Agreement Tariff.

Filed Date: 11/10/2010.

Accession Number: 20101110-5073.

Comment Date: 5 p.m. Eastern Time on Wednesday, December 1, 2010.

Docket Numbers: ER11-2069-000.

Applicants: Duke Energy Lee II, LLC.

Description: Duke Energy Lee II, LLC submits tariff filing per 35.1: MBR Filing to be effective 1/9/2011.

Filed Date: 11/10/2010.

Accession Number: 20101110-5093.

Comment Date: 5 p.m. Eastern Time on Wednesday, December 1, 2010.

Docket Numbers: ER11-2070-000.

Applicants: Carolina Power & Light Company.

Description: Carolina Power & Light Company submits tariff filing per 35.13(a)(2)(iii: Service Agreement No. 315 under Carolina Power and Light OATT to be effective 11/1/2010.

Filed Date: 11/10/2010.

Accession Number: 20101110-5104.

Comment Date: 5 p.m. Eastern Time on Wednesday, December 1, 2010.

Docket Numbers: ER11-2071-000.

Applicants: Southwest Power Pool, Inc.

Description: Southwest Power Pool, Inc. submits tariff filing per 35.13(a)(2)(iii: Submission of Changes to Pricing Zone Rates—OMPA to be effective 7/26/2010.

Filed Date: 11/10/2010.

Accession Number: 20101110-5105.

Comment Date: 5 p.m. Eastern Time on Wednesday, December 1, 2010.

Docket Numbers: ER11-2072-000.

Applicants: Carolina Power & Light Company.

Description: Carolina Power & Light Company submits tariff filing per 35.13(a)(2)(iii: Service Agreement No. 316 under Carolina Power and Light OATT to be effective 11/1/2010.

Filed Date: 11/10/2010.

Accession Number: 20101110-5106.

Comment Date: 5 p.m. Eastern Time on Wednesday, December 1, 2010.

Docket Numbers: ER11-2073-000.

Applicants: PJM Interconnection, L.L.C.

Description: Interim Interconnection Service Agreement Cancellation Notice of PJM Interconnection, L.L.C.

Filed Date: 11/10/2010.

Accession Number: 20101110-5111.

Comment Date: 5 p.m. Eastern Time on Wednesday, December 1, 2010.

Docket Numbers: ER11-2074-000.

Applicants: PJM Interconnection, L.L.C.

Description: PJM Interconnection, L.L.C. submits tariff filing per 35: Compliance Filing per August 12, 2010 Order in Docket No. ER09-1063-003 to be effective 11/11/2010.

Filed Date: 11/10/2010.

Accession Number: 20101110-5116.

Comment Date: 5 p.m. Eastern Time on Wednesday, December 1, 2010.

Docket Numbers: ER11-2075-000.

Applicants: Ameren Illinois Company.

Description: Ameren Illinois Company submits tariff filing per 35.13(a)(2)(iii): Submission of Changes to Joint Ownership Agreement to be effective 12/31/9998.

Filed Date: 11/10/2010.

Accession Number: 20101110-5117.

Comment Date: 5 p.m. Eastern Time on Wednesday, December 1, 2010.

Docket Numbers: ER11-2076-000.

Applicants: Deseret Generation & Transmission Co-operative, Inc.

Description: Deseret Generation & Transmission Co-operative, Inc. submits tariff filing per 35.1: Baseline Tariff Filing to be effective 11/10/2010.

Filed Date: 11/10/2010.

Accession Number: 20101110-5118.

Comment Date: 5 p.m. Eastern Time on Wednesday, December 1, 2010.

Docket Numbers: ER11-2077-000.

Applicants: Ameren Transmission Company of Illinois.

Description: Ameren Transmission Company of Illinois submits tariff filing per 35.1: Submission of Changes to Joint Ownership Agreement to be effective 12/31/9998.

Filed Date: 11/10/2010.

Accession Number: 20101110-5120.

Comment Date: 5 p.m. Eastern Time on Wednesday, December 1, 2010.

Take notice that the Commission received the following electric securities filings:

Docket Numbers: ES10-58-000.

Applicants: Kansas City Power & Light Company.

Description: Amendment to Section 204 Application of Kansas City Power & Light Company.

Filed Date: 11/10/2010.

Accession Number: 20101110-5053.

Comment Date: 5 p.m. Eastern Time on Monday, November 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-29322 Filed 11-19-10; 8:45 am]

BILLING CODE 6717-01-P